DEPARTMENT OF ENERGY

Federal Energy Regulatory Commission

[Docket No. CP03-323-000, et al.]

Pinnacle Pipeline Company; Notice of Application

July 2, 2003.

Take notice that on June 19, 2003, Pinnacle Pipeline Company (Pinnacle), 5100 Westheimer, Suite 320, Houston, Texas 77056, filed in Docket Nos. CP03-323-000, CP03-324-000 and CP03-325-000 an application pursuant to Section 7(c) of the Natural Gas Act and Parts 284 and 157 of the Commission's Regulations for a certificate of public convenience and necessity to continue operating the Hobbs Lateral, an existing pipeline facility located in the State of New Mexico; provide open-access firm and interruptible transportation services; engage in certain routine activities; and expand the Hobbs Lateral through the addition of looping facilities, all as more fully set forth in the application on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Pinnacle states that the Hobbs Lateral is an existing 5-mile, 10-inch diameter high pressure lateral pipeline located in Lea County, New Mexico. Pinnacle further states that the requested authorization will allow Pinnacle to continue to serve the existing and expanded combustion turbine needs of two electric power plants that are owned and operated by Southwestern Public Service Company (SPS), the only customer served by the Hobbs Lateral. Pinnacle states that the proposed expansion will consist of 2.4 miles of 12-inch diameter pipeline with two 12-inch mainline block valve assemblies at each end of the pipeline loop. Pinnacle estimates the cost of facilities to be $531,000.

Any questions regarding this application should be directed to William G. Janacek, Pinnacle Pipeline Company, 5100 Westheimer, Suite 320, Houston, Texas 77056-5511, at (713) 965-9151, fax (713) 965-9156.

There are two ways to become involved in the Commission's review of this project. First, any person wishing to obtain legal status by becoming a party to the proceedings for this project should, on or before the comment date stated below file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made in the proceeding. with the Commission and must mail a copy to the applicant and to every other party. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Protests and interventions may be filed electronically via the Internet in lieu of paper; see 18 CFR 385.2001(a)(1)(iii) and the instructions on the Commission's Web site under the “e-Filing” link. The Commission strongly encourages electronic filings.

Comment Date: July 23, 2003.

Magalie R. Salas,
Secretary.

[FR Doc. 03-18934 Filed 7-24-03; 8:45 am]

BILLING CODE 6717-01-P